NATIONAL AERONAUTICS AND SPACE ADMINISTRATION

[Notice: 23-053]

Name of Information Collection: Software Catalog

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by June 20, 2023.

ADDRESSES: Written comments and recommendations for this information collection should be sent within 30 days of publication of this notice to www.reginfo.gov/public/do/PRAMain.

Find this particular information collection by selecting “Currently under 30-day Review-Open for Public Comments” or by using the search function.

FOR FURTHER INFORMATION CONTACT: Requests for additional information or copies of the information collection instrument(s) and instructions should be directed to Bill Edwards-Bodmer, NASA Clearance Officer, NASA Headquarters, 300 E Street SW, JF0000, Washington, DC 20546, 757-864-7998, or b.edwards-bodmer@nasa.gov.

SUPPLEMENTARY INFORMATION:

I. Abstract

The information submitted by government entities, companies, academic institutions, and individuals is a software request form who wish to obtain a Software Usage Agreement (SUA) for a released NASA software technology. At a minimum, all software requestors must submit the intended use of the software and the requestor's citizenship, country of residence, phone number, and address. The collected information is used by NASA to ensure that the software requestor meets the qualifications to receive the NASA software technology.

II. Methods of Collection

NASA is participating in Federal efforts to extend the use of information technology to more Government processes via internet. NASA encourages recipients to use the latest computer technology in preparing documentation. Government entities, companies, academic institutions, and individuals submit software requests by completing the automated form by way of the Software Catalog. NASA requests all software requests to be submitted via electronic means.

III. Data

Title: Software Catalog.

OMB Number:

Type of review: New.

Affected Public: Government entities, companies, academic institutions, and individuals.

Estimated Annual Number of Activities: 1.

Estimated Number of Respondents per Activity: 1,171.

Annual Responses: 1,171.

Estimated Time per Response: 8 hours.

Estimated Total Annual Burden Hours: 9,368.

Estimated Total Annual Cost: $361,698.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

William Edwards-Bodmer,
NASA PRA Clearance Officer.

[FR Doc. 2023-10628 Filed 5-17-23; 8:45 am]

BILLING CODE 7510-13-P